DEPARTMENT OF THE INTERIOR

Bureau of Ocean Energy Management

Environmental Documents Prepared for Oil, Gas, and Mineral Operations by the Gulf of Mexico Outer Continental Shelf (OCS) Region

AGENCY: Bureau of Ocean Energy Management (BOEM), Interior.

ACTION: Notice of the availability of environmental documents prepared for ocs mineral proposals by the Gulf of Mexico OCS Region.

SUMMARY: BOEM, in accordance with Federal Regulations that implement the National Environmental Policy Act (NEPA), announces the availability of NEPA-related Site-Specific Environmental Assessments (SEAs), Environmental Assessments (EAs), and Findings of No Significant Impact (FONSIs). These EAs were prepared during the period April 1, 2012, through June 30, 2012, for oil, gas, and mineral-related activities that were proposed in the Gulf of Mexico, or more specifically described in the Supplementary Information Section of this notice.

FOR FURTHER INFORMATION CONTACT: Public Information Unit, Information Services Section at the number below. Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. The SEAs are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents required under the NEPA Regulations.

Activity/operator | Location | Date
Exxon Mobil Corporation, Exploration Plan, SEA N-9623 | Keathley Canyon, Block 918, located 215 miles from the nearest Louisiana shoreline, southwest of Morgan City, Louisiana | 4/2/2012
BP Exploration & Production Inc., Exploration Plan, SEA N-9616 | Keathley Canyon, Block 93, Lease OCS-G 25780, located 197 miles from the nearest Louisiana shoreline, in Cameron Parish, Louisiana, and 172 miles from the nearest Texas shoreline, in Brazoria County, Texas | 4/2/2012
Petroleum Geo Services, Geological & Geophysical Survey, SEA T11-005 | Located in the Western and Central Planning Areas of the Gulf of Mexico | 4/3/2012
CGG Veritas Services (US), Inc., Geological & Geophysical Survey, SEA T11-004 | Located in the Western Planning Area of the Gulf of Mexico | 4/5/2012
Repsol E&P USA Inc., Exploration Plan, SEA N-9613 | Walker Ridge, Block 365, Lease OCS-G 33967, located 170 miles from the nearest Louisiana shoreline | 4/5/2012
ATP Oil & Gas Corporation, Structure Removal, SEA ES/SR 11-075A | Ship Shoal, Block 322, Lease RUE G 23617, located 75 miles from the nearest Louisiana shoreline | 4/12/2012
Mariner Energy Resources, Inc., Structure Removal, SEA ES/SR 11-277 | Eugene Island, Block 266, Lease OCS-G 00811, located 67 miles from the nearest Louisiana shoreline | 4/13/2012
Energy Resource Technology GOM, Inc., Structure Removal, SEA ES/SR 11-313A | Mobile, Block 863, Lease OCS-G 05748, located 7 miles from the nearest Mississippi shoreline | 4/13/2012
Mariner Energy Resources, Inc., Structure Removal, SEA ES/SR 12-004 | South Marsh Island, Block 11, Lease OCS-G 01182, located 37 miles from the nearest Louisiana shoreline | 4/13/2012
Chevron U.S.A. Inc., Structure Removal, SEA ES/SR 12-055 & 12-056 | Eugene Island, Block 74, Lease OCS-G 02099, located 18 miles from the nearest Louisiana shoreline | 4/15/2012
Mariner Energy Resources, Inc., Structure Removal, SEA ES/SR 12-001 & 12-002 | South Marsh Island, Block 11, Lease OCS-G 01182, located 37 miles from the nearest Louisiana shoreline | 4/15/2012
Energy Resource Technology GOM, Inc., Structure Removal, SEA ES/SR 11-300 | Vermilion, Block 182, Lease OCS-G 10665, located 52 miles from the nearest Louisiana shoreline | 4/16/2012
McMoRan Oil & Gas LLC, Structure Removal, SEA ES/SR 10-099A | West Cameron, Block 639, Lease OCS-G 02027, located 116 miles from the nearest Louisiana shoreline | 4/17/2012
McMoRan Oil & Gas LLC, Structure Removal, SEA ES/SR 10-064A | West Cameron, Block 648, Lease OCS-G 04268, located 118 miles from the nearest Louisiana shoreline | 4/17/2012
Apache Deepwater LLC, Exploration Plan, SEA N-9620 | Garden Banks, Block 204, Lease OCS-G 33795, located 122.5 miles from the nearest Louisiana shoreline | 4/19/2012
BP Exploration & Production Inc., Exploration Plan, SEA R-5516 | Keathley Canyon, Block 292, located 188 miles from the nearest Louisiana shoreline | 4/19/2012
Chevron U.S.A. Inc., Structure Removal, SEA ES/SR 12-050 | South Marsh Island, Block 219, Lease OCS 00310, located 8 miles from the nearest Louisiana shoreline | 4/19/2012
Chevron U.S.A. Inc., Structure Removal, SEA ES/SR 12-077 | South Marsh Island, Block 229, Lease OCS 00310, located 12 miles from the nearest Louisiana shoreline | 4/19/2012
Energy Resource Technology GOM, Inc., Structure Removal, SEA ES/SR 11-301 | Vermilion, Block 182, Lease OCS-G 10665, located 52 miles from the nearest Louisiana shoreline | 4/20/2012
LLOG Exploration Offshore, L.L.C., Exploration Plan, SEA S-7539 | Mississippi Canyon, Block 431, located 60 miles from the nearest Louisiana shoreline | 4/22/2012
Noble Energy, Inc., Exploration Plan, SEA R-5504 | Mississippi Canyon, Block 948, located 67 miles from the nearest Louisiana shoreline | 4/23/2012
Mariner Energy Resources, Inc., Structure Removal, SEA ES/SR 12-079 | South Timbalier, Block 72, Lease OCS-G 01244, located 17 miles from the nearest Louisiana shoreline | 4/23/2012
Energy Resource Technology GOM, Inc., Structure Removal, SEA ES/SR 11-302 | Vermilion, Block 162, Lease OCS-G 23820, located 46 miles from the nearest Louisiana shoreline | 4/23/2012
Tana Exploration Company LLC, Structure Removal, SEA ES/SR 11-322 | West Cameron, Block 116, Lease OCS-G 22513, located 16 miles from the nearest Louisiana shoreline | 4/23/2012
LLOG Exploration Offshore, L.L.C., Exploration Plan, SEA R-5517 | Mississippi Canyon, Block 300, located 59 miles from the nearest Louisiana shoreline | 4/24/2012
Mariner Energy, Inc., Structure Removal, SEA ES/SR 12-085 | South Timbalier, Block 72, Lease OCS-G 01244, located 17 miles from the nearest Louisiana shoreline | 4/24/2012
Energy Resource Technology GOM, Inc., Structure Removal, SEA ES/SR 11-299 | Vermilion, Block 250, Lease OCS-G 27072, located 65 miles from the nearest Louisiana shoreline | 4/24/2012
Tana Exploration Company LLC, Structure Removal, SEA ES/SR 11-323 | Vermilion, Block 41, Lease OCS-G 33076, located 13 miles from the nearest Louisiana shoreline | 4/24/2012
Chevron U.S.A. Inc., Structure Removal, SEA ES/SR 12-078 | Ship Shoal, Block 183, Lease OCS-G 00821, located 30 miles from the nearest Louisiana shoreline | 4/25/2012
Hilcorp Energy GOM, LLC, Structure Removal, SEA ES/SR 96-042B | Ship Shoal, Block 108, Lease OCS-G 00814, located 17 miles from the nearest Louisiana shoreline | 4/26/2012
Mariner Energy Resources, Inc., Structure Removal, SEA ES/SR 12-083 | Sabine Pass, Block 9, Lease OCS-G 27972, located 10 miles from the nearest Louisiana shoreline | 4/27/2012
Dynamic Offshore Resources, LLC, Structure Removal, SEA ES/SR 12-094 | Ship Shoal, Block 166, Lease OCS-G 05549, located 27 miles from the nearest Louisiana shoreline | 4/27/2012
Dynamic Offshore Resources, LLC, Structure Removal, SEA ES/SR 12-091 | Ship Shoal, Block 167, Lease OCS-G 00818, lcoated 27 miles from the nearest Louisiana shoreline | 4/27/2012
Mariner Energy Resources, Inc., Structure Removal, SEA ES/SR 12-082 | South Marsh Island, Block 11, Lease OCS-G 01182, located 36 miles from the nearest Louisiana shoreline | 4/27/2012
Stone Energy Corporation, Structure Removal, SEA ES/SR 12-101 | South Marsh Island, Block 250, Lease OCS-G 22651, located 18 miles from the nearest Louisiana shoreline | 4/27/2012
Dynamic Offshore Resources, LLC, Structure Removal, SEA ES/SR 12-089 | South Timbalier, Block 178, Lease OCS-G 12019, located 36 miles from the nearest Louisiana shoreline | 4/27/2012
Dynamic Offshore Resources, LLC, Structure Removal, SEA ES/SR 12-100 | West Delta, Block 79, Lease OCS-G 01449, located 6 miles from the nearest Louisiana shoreline | 4/27/2012
Petrobras America Inc., Exploration Plan, SEA N-9609 | Walker Ridge, Block 376, located 169 miles from the nearest Louisiana shoreline | 4/29/2012
ATP Oil & Gas Corporation, Structure Removal, SEA ES/SR 12-045 | High Island, Block 74, Lease OCS-G 21348, located 20 miles from the nearest Louisiana shoreline | 5/1/2012
Exxon Mobil Corporation, Development Operations Coordination Document, SEA R-5410 | Mississippi Canyon, Block 211, located 54 miles from the nearest Louisiana shoreline, southeast of Boothville, Louisiana | 5/1/2012
Shell Offshore Inc., Exploration Plan, SEA R-5506 | Mississippi Canyon, Block 765, 766, 808, 809, 810, 811, 851, 852, 853 & 854, located 50 miles from the nearest Louisiana shoreline, south of Venice, Louisiana | 5/1/2012
Apache Corporation, Structure Removal, SEA ES/SR 12-059 | South Pelto, Block 11, Lease OCS 00071, located 6 miles from the nearest Louisiana shoreline | 5/1/2012
Anadarko Petroleum Corporation, Exploration Plan, SEA S-7533 | De Soto Canyon, Blocks 490, 491 & 535, Leases OCS-G 23515, 23516 & 23520, located 97 miles from the nearest Louisiana shoreline | 5/3/2012
Tana Exploration Company LLC, Structure Removal, SEA ES/SR 11-321 | Eugene Island, Block 85, Lease OCS-G 24889, located 18 miles from the nearest Louisiana shoreline | 5/3/2012
Stone Energy Corporation, Structure Removal, SEA ES/SR 04-067A | South Timbalier, Block 111, Lease OCS-G 05602, located 26 miles from the nearest Louisiana shoreline | 5/3/2012
Mariner Energy, Inc., Structure Removal, SEA ES/SR 12-084 | South Timbalier, Block 72, Lease OCS-G 01244, located 17 miles from the nearest Louisiana shoreline | 5/3/2012
Mariner Energy Resources, Inc., Structure Removal, SEA ES/SR 12-011 | Vermilion, Block 26, Lease OCS 00297, located 5 miles from the nearest Louisiana shoreline | 5/3/2012
Walter Oil & Gas Corporation, Exploration Plan, SEA R-5515 | Ewing Bank, Blocks 790 and 834, located 60 miles from the nearest Louisiana shoreline | 5/4/2012
Nexen Petroleum U.S.A. Inc., Exploration Plan, SEA R-5456 | Green Canyon, Block 504, located 108 miles from the nearest Louisiana shoreline | 5/4/2012
Exxon Mobil Corporation, Exploration Plan, SEA N-9631 | Walker Ridge, Blocks 630 & 674, Leases OCS-G 32698 & 32699, located 189 miles from the nearest Louisiana shoreline, respectively | 5/4/2012
Shell Offshore Inc., Exploration Plan, SEA N-9633 | Mississippi Canyon, Blocks 894 & 850, Leases OCS-G 24122 & 09881, located 58 miles from the nearest Louisiana shoreline, respectively | 5/9/2012
Tana Exploration Company LLC, Structure Removal, SEA ES/SR 11-326 | West Cameron, Block 157, Lease OCS-G 24729, located 17 miles from the nearest Louisiana shoreline | 5/9/2012
Tana Exploration Company LLC, Structure Removal, SEA ES/SR 11-324 | High Island, Block 73, Lease OCS-G 25553, located 18 miles from the nearest Louisiana shoreline | 5/10/2012
ATP Oil & Gas Corporation, Structure Removal, SEA ES/SR 12-044 | High Island, Block 74, Lease OCS-G 21348, located 18 miles from the nearest Louisiana shoreline | 5/10/2012
Apache Corporation, Structure Removal, SEA ES/SR 11-037 | Mustang Island, Block 762, Lease OCS-G 03021, located 33 miles from the nearest Texas shoreline | 5/10/2012
Eni US Operating Co. Inc., Exploration Plan, SEA S-7442 | Mississippi Canyon, Block 546, located 38 miles from the nearest Louisiana shoreline | 5/11/2012
Dynamic Offshore Resources, LLC, Structure Removal, SEA ES/SR 12-095 | Ship Shoal, Block 166, Lease OCS-G 05549, located 26 miles from the nearest Louisiana shoreline | 5/11/2012
Mariner Energy, Inc., Structure Removal, SEA ES/SR 12-016 & 12-019 | South Timbalier, Block 72, Lease OCS-G 01244, located 16 miles from the nearest Louisiana shoreline | 5/11/2012
Mariner Energy, Inc., Structure Removal, SEA ES/SR 12-017 & 12-018 | South Timbalier, Block 72, Lease OCS-G 01244, located 16 miles from the nearest Louisiana shoreline | 5/11/2012
Stone Energy Corporation, Structure Removal, SEA ES/SR 12-117 | South Timbalier, Block 81, Lease OCS-G 27155, located 18 miles from the nearest Louisiana shoreline | 5/11/2012
Dynamic Offshore Resources NS, LLC, Structure Removal, SEA ES/SR 12-090 | Vermilion, Block 161, Lease OCS-G 01127, located 43 miles from the nearest Louisiana shoreline | 5/11/2012
ATP Oil & Gas Corporation, Structure Removal, SEA ES/SR 11-317 | West Cameron, Block 461, Lease OCS-G 14336, located 128 miles from the nearest Louisiana shoreline | 5/11/2012
Stone Energy Corporation, Structure Removal, SEA ES/SR 12-122 | Ship Shoal, Block 146, Lease OCS-G 22705, located 23 miles from the nearest Louisiana shoreline | 5/14/2012
Dynamic Offshore Resources, LLC, Structure Removal, SEA ES/SR 12-093 | Galveston, Block 298, Lease OCS-G 25536, located 24 miles from the nearest Texas shoreline | 5/15/2012
Noble Energy, Inc., Exploration Plan, SEA R-5450 | Green Canyon, Block 198, located 87 miles from the nearest Louisiana shoreline | 5/15/2012
Eni US Operating Co. Inc., Structure Removal, SEA ES/SR 12-048 | Main Pass, Block 139, Lease OCS-G 13653, located 13 miles from the nearest Louisiana shoreline | 5/16/2012
W & T Offshore, Inc., Structure Removal, SEA ES/SR 12-154 | High Island, Block 177, Lease OCS-G 06165, located 21 miles from the nearest Louisiana shoreline | 5/17/2012
TGS-NOPEC Geophysical Company, Geological & Geophysical Survey, SEA L12-006 | Located in the Central Gulf of Mexico | 5/17/2012
LLOG Exploration Offshore, L.L.C., Exploration Plan, SEA S-7548 | Mississippi Canyon, Block 301, Lease OCS-G 24069, located 60 miles from the nearest Louisiana shoreline | 5/18/2012
McMoRan Oil & Gas LLC, Structure Removal, SEA ES/SR 12-149 | Eugene Island, Block 193, Lease OCS-G 00572, located 38 miles from the nearest Louisiana shoreline | 5/22/2012
Anadarko Petroleum Corporation, Exploration Plan, SEA N-9626 | Lloyd Ridge, Block 621, located 143 miles from the nearest Louisiana shoreline, in Plaquemines Parish, Louisiana | 5/22/2012
Chevron U.S.A. Inc., Exploration Plan, SEA R-5503 | Keathley Canyon, Block 736, located 216 miles from the nearest Louisiana shoreline | 5/23/2012
Energy Resource Technology GOM, Inc., Structure Removal, SEA ES/SR 12-166 | Ship Shoal, Block 223, Lease OCS-G 01526, located 43 miles from the nearest Louisiana shoreline | 5/23/2012
Stone Energy Corporation, Structure Removal, SEA ES/SR 12-130 | Ship Shoal, Block 99, Lease OCS-G 13912, located 14 miles from the nearest Louisiana shoreline | 5/23/2012
Stone Energy Corporation, Structure Removal, SEA ES/SR 12-146 | South Pelto, Block 23, Lease OCS-G 01238, located 15 miles from the nearest Louisiana shoreline | 5/23/2012
Medco Energi US LLC, Structure Removal, SEA ES/SR 12-102 | Brazos, Block 451, Lease OCS-G 03935, located 12 miles from the nearest Texas shoreline | 5/24/2012
McMoRan Oil & Gas LLC, Structure Removal, SEA ES/SR 12-147 | East Cameron, Block 42, Lease OCS-G 02857, located 9 miles from the nearest Louisiana shoreline | 5/24/2012
Nexen Petroleum U.S.A. Inc., Exploration Plan, SEA S-7517 | Mississippi Canyon, Block 842, Lease OCS-G 24118, located 58 miles from the nearest Louisiana shoreline, south of Venice, Louisiana, in Plaquemines Parish, Louisiana | 5/24/2012
Stone Energy Corporation, Structure Removal, SEA ES/SR 12-159 | Ship Shoal, Block 106, Lease OCS-G 24923, located 20 miles from the nearest Louisiana shoreline | 5/24/2012
Woodside Energy (USA) Inc., Exploration Plan, SEA R-5492 | Green Canyon, Block 451, Lease OCS-G 32509, located 110 miles from the nearest Louisiana shoreline | 5/25/2012
LLOG Exploration Offshore, L.L.C., Development Operations Coordination Document, SEA S-7545 | Mississippi Canyon, Blocks 503 & 547, located 36 miles from the nearest Louisiana shoreline, southeast of Venice, Louisiana, respectively | 5/25/2012
Medco Energi US LLC, Structure Removal, SEA ES/SR 12-153 | Mustang Island, Block 758, Lease OCS-G 23135, located 28 miles from the nearest Texas shoreline | 5/25/2012
Stone Energy Corporation, Structure Removal, SEA ES/SR 12-158 | Ship Shoal, Block 113, Lease OCS-G 00067, located 14 miles from the nearest Louisiana shoreline | 5/25/2012
Stone Energy Corporation, Structure Removal, SEA ES/SR 12-131 | Ship Shoal, Block 99, Lease OCS-G 13912, located 15 miles from the nearest Louisiana shoreline | 5/25/2012
Stone Energy Corporation, Structure Removal, SEA ES/SR 12-145 | South Timbalier, Block 11, Lease OCS-G 13925, located 3 miles from the nearest Louisiana shoreline | 5/25/2012
W & T Offshore, Inc., Structure Removal, SEA ES/SR 12-164 & 12-165 | West Cameron, Block 180, Lease OCS-G 00763, located 27 miles from the nearest Louisiana shoreline | 5/25/2012
Noble Energy, Inc., Exploration Plan, SEA N-9619 | Mississippi Canyon, Blocks 993, 992, 948 & 949, Leases OCS-G 24134, 24133, 28030 & 32363, located 70 miles from the nearest Louisiana shoreline, respectively | 5/29/2012
Petrobras America Inc., Development Operations Coordination Document, SEA S-7518 | Walker Ridge, Blocks 206, Lease OCS-G 16965, located 165 miles from the nearest Louisiana shoreline | 5/29/2012
Union Oil Company of California, Exploration Plan, SEA N-9640 | Walker Ridge, Blocks 98 & 99, Leases OCS-G 21841 & 21842, located 155 miles from the nearest Louisiana shoreline, respectively | 5/29/2012
BHP Billiton Petroleum (GOM) Inc., Exploration Plan, SEA N-9617 | DeSoto Canyon, Block 726, located 133 miles from the nearest Florida shoreline, south of Pensacola, Florida, in Gulf County, Florida | 5/30/2012
Apache Corporation, Development Operations Coordination Document, SEA S-7466 | High Island, Block A365, Lease OCS-G 02750, located 114 miles from the nearest Louisiana shoreline and 112 miles from the nearest Texas shoreline | 5/30/2012
CGGVeritas Services (US) Inc., Geological and Geophysical Survey, SEA L12-012 | Located in the Central and Western Planning Areas of the Gulf of Mexico | 5/30/2012
Stone Energy Corporation, Structure Removal, SEA ES/SR 12-142 | South Pelto, Block 5, Lease OCS-G 12027, located 3 miles from the nearest Louisiana shoreline | 5/30/2012
Exxon Mobil Production Company, Exploration Plan, SEA N-9646 | Walker Ridge, Blocks 717 & 629, Leases OCS-G 26412 & 33383, located 189.4 miles from the nearest Louisiana shoreline | 5/30/2012
Century Exploration New Orleans, LLC, Structure Removal, SEA ES/SR 07-146A | West Cameron, Block 101, Lease OCS-G 32105, located 13 miles from the nearest Louisiana shoreline | 5/30/2012
Dynamic Offshore Resources, LLC, Structure Removal, SEA ES/SR 12-092 | East Cameron, Block 178, Lease OCS-G 27834, located 49 miles from the nearest Louisiana shoreline | 5/31/2012
Arena Offshore, LP, Structure Removal, SEA ES/SR 12-088 | East Cameron, Block 328, Lease OCS-G 10638, located 96 miles from the nearest Louisiana shoreline | 5/31/2012
Apache Corporation, Structure Removal, SEA ES/SR 12-076 | Eugene Island, Block 108, Lease OCS-G 03811, located 23 miles from the nearest Louisiana shoreline | 5/31/2012
Maritech Resources, Inc., Structure Removal, SEA ES/SR 11-295 | Main Pass, Block 223, Lease OCS-G 12096, located 57 miles from the nearest Louisiana shoreline | 5/31/2012
Maritech Resources, Inc., Structure Removal, SEA ES/SR 11-296 | Main Pass, Block 250, Lease OCS-G 15387, located 59 miles from the nearest Louisiana shoreline | 5/31/2012
Mariner Energy Resources, Inc., Structure Removal, SEA ES/SR 12-081 | South Marsh Island, Block 11, Lease OCS-G 01182, located 36 miles from the nearest Louisiana shoreline | 5/31/2012
Murphy Exploration & Production Company—USA, Development Operations Coordination Document, SEA N-9602 | De Soto Canyon, Blocks 4 & 47, Leases OCS-G 10437 & 10439, located 77 & 72 miles from the nearest Louisiana shoreline, respectively | 6/1/2012
LLOG Exploration Offshore, L.L.C., Exploration Plan, SEA R-5208 | Mississippi Canyon, Blocks 253 & 208, located 48 miles from the nearest Louisiana shoreline | 6/1/2012
Shell Offshore Inc., Exploration Plan, SEA R-5534 | Mississippi Canyon, Blocks 720, 721, 722, 723, 763, 764, 765, 766, 767, 807, 808, 809, 810, 851, 852 & 853, 50 miles from the nearest Louisiana shoreline, respectively | 6/1/2012
Shell Gulf of Mexico Inc., Exploration Plan, SEA R-5552 | Mississippi Canyon, Block 391, located 64 miles from the nearest Louisiana shoreline | 6/4/2012
Walter Oil & Gas Corporation, Exploration Plan, SEA R-5544 | South Timbalier, Block 311, located 64 miles from the nearest Louisiana shoreline | 6/4/2012
Union Oil Company of California, Structure Removal, SEA ES/SR 12-124 | Vermilion, Block 38, Lease OCS-G 00205, located 7 miles from the nearest Louisiana shoreline | 6/4/2012
Petrobras America Inc., Development Operations Coordination Document, SEA S-7493 | Walker Ridge, Blocks 425 & 469, Leases OCS-G16987 & 16997, located 174 miles from the nearest Louisiana shoreline, respectively | 6/4/2012
Nexen Petroleum U.S.A. Inc., Structure Removal, SEA ES/SR 12-156 | Vermilion, Block 340, Lease OCS-G 02091, located 90 miles from the nearest Louisiana shoreline | 6/5/2012
Statoil USA E&P Inc., Exploration Plan, SEA N-9641 | Green Canyon, Blocks 35 & 36, Leases OCS-G 26287 & 26286, located 77 miles from the nearest Louisiana shoreline, respectively | 6/6/2012
Tesla Offshore, LLC, Geological and Geophysical Survey, SEA L12-010 | Located in the Central Planning Area of the Gulf of Mexico | 6/7/2012
W & T Offshore, Inc., Structure Removal, SEA ES/SR 10-066A | Eugene Island, Block 397, Lease OCS-G 15271, located 112 miles from the nearest Louisiana shoreline | 6/11/2012
Apache Corporation, Structure Removal, SEA ES/SR 12-062 | Eugene Island, Block 120, Lease OCS-G 00050, located 21 miles from the nearest Louisiana shoreline | 6/13/2012
Stone Energy Corporation, Structure Removal, SEA ES/SR 12-143 | South Pelto, Block 5, Lease OCS-G 12027, located 5 miles from the nearest Louisiana shoreline | 6/13/2012
Apache Corporation, Structure Removal, SEA ES/SR 12-060 | South Pelto, Block 9, Lease OCS-G 02924, located 7 miles from the nearest Louisiana shoreline | 6/13/2012
Apache Corporation, Structure Removal, SEA ES/SR 06-084 | South Timbalier, Block 162, Lease OCS-G 01249, located 33 miles from the nearest Louisiana shoreline | 6/13/2012
Mariner Energy, Inc., Structure Removal, SEA ES/SR 12-109 | East Cameron, Block 312, Lease OCS-G 21077, located 92 miles from the nearest Louisiana shoreline | 6/14/2012
Arena Offshore, LP, Structure Removal, SEA ES/SR 12-046 & 12-047 | Matagorda Island, Block 587, Lease OCS-G 04996, located 19 miles from the nearest Texas shoreline | 6/15/2012
Mariner Energy, Inc., Structure Removal, SEA ES/SR 12-041 | South Timbalier, Block 72, Lease OCS-G 01244, located 17 miles from the nearest Louisiana shoreline | 6/15/2012
Mariner Energy, Inc., Structure Removal, SEA ES/SR 12-042 & 12-043 | Vermilion, Block 35, Leases OCS-G 00549 & 00548, located 8 & 6 miles from the nearest Louisiana shoreline, respectively | 6/15/2012
Apache Corporation, Structure Removal, SEA ES/SR 12-061 | Grand Isle, Block 45, Lease OCS-G 16461, located 17 miles from the nearest Louisiana shoreline | 6/18/2012
Apache Corporation, Structure Removal, SEA ES/SR 12-063, 12-064, 12-065, 12-066, 12-067, 12-068, 12-070, 12-071 & 12-072 | Eugene Island, Block 119, Lease OCS 00049, located 21 miles from the nearest Louisiana shoreline | 6/19/2012
Shell Offshore Inc., Exploration Plan, SEA R-5556 | Garden Banks, Block 427, located 134 miles to the nearest Louisiana shoreline | 6/19/2012
Stone Energy Corporation, Structure Removal, SEA ES/SR 12-132 | Ship Shoal, Block 99, Lease OCS-G 13912, located 14 miles from the nearest Louisiana shoreline | 6/19/2012
Mariner Energy Resources, Inc., Structure Removal, SEA ES/SR 12-020 | South Timbalier, Block 274, Lease OCS-G 21680, located 57 miles from the nearest Louisiana shoreline | 6/19/2012
Mariner Energy Resources, Inc., Structure Removal, SEA ES/SR 96-053 | Vermilion, Block 26, Lease OCS 00297, located 4 miles from the nearest Louisiana shoreline | 6/19/2012
Mariner Energy Resources, Inc., Structure Removal, SEA ES/SR 08-003 | Vermilion, Block 35, Lease OCS-G 00549, located 8 miles from the nearest Louisiana shoreline | 6/19/2012
Union Oil Company of California, Structure Removal, SEA ES/SR 12-123 | Vermilion, Block 38, Lease OCS 00205, located 7 miles from the nearest Louisiana shoreline | 6/19/2012
EOG Resources, Inc., Structure Removal, SEA ES/SR 12-126 | Matagorda Island, Block 685, Lease OCS-G 04548, located 18 miles from the nearest Texas shoreline | 6/21/2012
Mariner Energy Resources, Inc., Structure Removal, SEA ES/SR 12-006 | Vermilion, Block 26, Lease OCS 00297, located 5 miles from the nearest Louisiana shoreline | 6/21/2012
Noble Energy, Inc., Exploration Plan, SEA S-7551 | Vioska Knoll, Block 962, Lease OCS 15445, located 74.5 miles from the nearest Louisiana shoreline | 6/21/2012
Apache Corporation, Structure Removal, SEA ES/SR 12-015 | Galveston Island, Block 333, Lease OCS-G 06104, located 11 miles from the nearest Texas shoreline | 6/22/2012
Mariner Energy Resources, Inc., Structure Removal, SEA ES/SR 12-036 | Vermilion, Block 26, Lease OCS 00297, located 4 miles from the nearest Louisiana shoreline | 6/22/2012
Mariner Energy Resources, Inc., Structure Removal, SEA ES/SR 12-031 | Vermilion, Block 26, Lease OCS 00297, located 5 miles from the nearest Louisiana shoreline | 6/22/2012
Mariner Energy Resources, Inc., Structure Removal, SEA ES/SR 12-029 | Vermilion, Block 26, Lease OCS 00297, located 6 miles from the nearest Louisiana shoreline | 6/22/2012
Mariner Energy Resources, Inc., Structure Removal, SEA ES/SR 12-027 | Vermilion, Block 26, Lease OCS 00297, located 3 miles from the nearest Louisiana shoreline | 6/25/2012
Mariner Energy Resources, Inc., Structure Removal, SEA ES/SR 12-026 | Vermilion, Block 26, Lease OCS 00297, located 4 miles from the nearest Louisiana shoreline | 6/25/2012
Mariner Energy Resources, Inc., Structure Removal, SEA ES/SR 12-008 | Vermilion, Block 26, Lease OCS 00297, located 5 miles from the nearest Louisiana shoreline | 6/25/2012
Mariner Energy Resources, Inc., Structure Removal, SEA ES/SR 12-010 | Vermilion, Block 26, Lease OCS 00297, located 5 miles from the nearest Louisiana shoreline | 6/25/2012
Mariner Energy Resources, Inc., Structure Removal, SEA ES/SR 12-033 | Vermilion, Block 26, Lease OCS 00297, located 5 miles from the nearest Louisiana shoreline | 6/25/2012
Mariner Energy Resources, Inc., Structure Removal, SEA ES/SR 12-030 | Vermilion, Block 26, Lease OCS 00297, located 6 miles from the nearest Louisiana shoreline | 6/25/2012
Mariner Energy Resources, Inc., Structure Removal, SEA ES/SR 12-034 | Vermilion, Block 26, Lease OCS 00297, located 6 miles from the nearest Louisiana shoreline | 6/25/2012
EOG Resources, Inc., Structure Removal, SEA ES/SR 12-128 | Mustang Island, Block 758, Lease OCS-G 03020, located 28 miles from the nearest Texas shoreline | 6/26/2012
Apache Corporation, Structure Removal, SEA ES/SR 12-013 | Eugene Island, Block 119, Lease OCS 00049, located 22 miles from the nearest Louisiana shoreline | 6/27/2012
Apache Corporation, Structure Removal, SEA ES/SR 12-069 | Eugene Island, Block 119, Lease OCS 00049, located 22 miles from the nearest Louisiana shoreline | 6/27/2012
Stone Energy Corporation, Exploration Plan, SEA N-9598 | Located in the Central Planning Area of the Gulf of Mexico, southwest of Venice, Louisiana | 6/27/2012
Mariner Energy Resources, Inc., Structure Removal, SEA ES/SR 12-028 | Vermilion, Block 26, Lease OCS 00297, located 3 miles from the nearest Louisiana shoreline | 6/27/2012
Mariner Energy Resources, Inc., Structure Removal, SEA ES/SR 12-007 | Vermilion, Block 26, Lease OCS 00297, located 5 miles from the nearest Louisiana shoreline | 6/27/2012
Nexen Petroleum U.S.A. Inc., Exploration Plan, SEA N-9650 | Located in the Central Planning Area of the Gulf of Mexico, south of Terrebonne Parish, Louisiana | 6/28/2012
EOG Resources, Inc., Structure Removal, SEA ES/SR 12-127 | Mustang Island, Block 784, Lease OCS-G 05996, located 31 miles from the nearest Texas shoreline | 6/28/2012
EOG Resources, Inc., Structure Removal, SEA ES/SR 12-129 | Mustang Island, Block 784, Lease OCS-G 05996, located 32 miles from the nearest Texas shoreline | 6/28/2012

Persons interested in reviewing environmental documents for the proposals listed above or obtaining information about SEAs, EAs and FONSIs prepared by the Gulf of Mexico OCS Region are encouraged to contact BOEM at the address or telephone listed in the FOR FURTHER INFORMATION CONTACT section.

Dated: August 10, 2012.
John Rodi,
Regional Director, Gulf of Mexico OCS Region.

[FR Doc. 2012-22905 Filed 9-17-12; 8:45 am]

BILLING CODE 4310-MR-P